DEPARTMENT OF TRANSPORTATION

Federal Aviation Administration

Terminal Area Operations Aviation Rulemaking Committee

AGENCY: Federal Aviation Administration, DOT.

ACTION: Notice of public meeting.

SUMMARY: This document announces the location of a public meeting in which the Federal Aviation Administration (FAA) and other interested parties will discuss the draft charter, tasking, and organization of the proposed Terminal Area Operations Aviation Rulemaking Committee.

DATES: The public meeting will be held on December 5 and 6, 2001 at 9 a.m. Registration will begin at 8:30 a.m. on each day.

ADDRESSES: The public meeting will be held at the Dulles Airport Marriott, 45020 Aviation Drive, Dulles, VA 20166, (703) 471-9500.

People who plan to attend the meeting should contact Cindy Nordlie at cindy,nordlie@faa.gov or (202) 267-7627 no later than December 3, 2001. Please let Cindy Nordlie know if you plan to make a presentation at the meeting and if you need any audio-visual equipment for the presentation.

FOR FURTHER INFORMATION CONTACT: Questions regarding the logistics of the meeting should be directed to Ms. Cindy Nordlie, Airmen and Airspace Rules Division, ARM-108, Federal Aviation Administration, 800 Independence Avenue SW., Washington, DC 20591; telephone (202) 267-7627, facsimile (202) 267-5075; e-mail: cindy.nordlie@faa.gov. Technical questions should be directed to Ms. Katherine Perfetti, Air Transportation Division, AFS-200, Federal Aviation Administration, 800 Independence Ave., SW., Washington, DC 20591; telephone (202) 267-3760, facsimile (202) 267-5229; e-mail: katherine.perfetti@faa.gov.

SUPPLEMENTARY INFORMATION: On November 13, 2001, a Notice of Public Meeting was published in the Federal Register (66 FR 56897) announcing that this public meeting would be held in the Washington, DC area. The specific location of the public meeting was not published at that time. The meeting will be held at the Dulles Airport Marriott, 45020 Aviation Drive, Dulles, VA 20166, (703) 471-9500. For attendees who need to stay in a hotel, the following hotels, in addition to the Marriott listed above, are also near Washington Dulles International Airport: Hilton Washington Dulles Airport, (703) 478-2900; Hyatt Hotel-Dulles, (703) 713-1234; Fairfield Inn, 703-435-5300; Embassy Suites Dulles Airport, (703) 464-0200.

The purpose of the meeting is to discuss the draft charter, tasking, and organization of the proposed Terminal Area Operations Aviation Rulemaking Committee. An electronic copy of Federal Register notices, a draft of the charter, and other background information on the proposed Terminal Area Operations Aviation Rulemaking Committee can be found at the following Web site: http://www.faa.gov/avr/arm/index.htm under the “Committees” heading.

Participation at the Public Meeting

Requests from persons who wish to attend the public meeting should be received by the FAA no later than December 3, 2001. Please also let the FAA know if you plan to make a presentation at the meeting and if you need any audio-visual equipment for the presentation. Such requests should be submitted to Ms. Cindy Nordlie, Airmen and Airspace Rules Division, as listed in the section above titled For Further Information Contact.

Background

Pursuant to the Administrator's authority under 49 U.S.C. 106(p)(5), the FAA is proposing to establish a Terminal Area Operations Aviation Rulemaking Committee. Safety issues and recommendations identified by the Commercial Aviation Safety Team (CAST) relating to Controlled Flight Into Terrain (CFIT) accidents and incidents, and airport capacity constraints with associated delays, dictate a need for improvements in terminal area operations. The capabilities of modern aircraft, specifically the use of area navigation (including the global positioning system), are not fully utilized. Evolving technologies and potential equipment upgrades provide increased operational and safety benefits not realized unless a practical means is established to facilitate implementation. The international aspects of aviation operation and aircraft production require that terminal area operational procedures and associated equipage be consistent.

The general goal of the committee will be to develop a means to implement improvements in terminal area operations that address safety, capacity, and efficiency objectives and that are consistent with international implementation. It will provide a forum for the FAA, other government entities, and the aviation industry to discuss issues, develop resolutions, and develop processes to facilitate the evolution of safe and efficient terminal area operations. This committee will support the international harmonization process.

To achieve these objectives, the committee's proposed initial task is to resolve outstanding issues pertaining to draft Advisory Circular (AC) 120-29A and other draft required navigation performance (RNP) materials including, but not limited to AC 20-RNP, AC 90-RNP RNAV, advisory Circular 120-xxx (airport obstacle analysis), and Order 8260.RNP.

Public Meeting Procedures

Persons who plan to attend the meeting should be aware of the following procedures established for this meeting:

1. There will be no admission fee or other charge to attend or to participate in the public meeting. The meeting will be open to all interested people who have confirmed attendance in advance or who register on the day of the meeting (between 8:30 a.m. and 9:00 a.m.), subject to availability of space in the meeting room.

2. Representatives from the FAA will conduct the public meeting.

3. The public meeting is intended as a forum to seek input to the draft charter, tasking, and organization of the proposed Terminal Area Operations Aviation Rulemaking Committee. Participants must limit their discussions to this issue.

4. The FAA will try to accommodate input from all attendees; therefore, it may be necessary to limit the discussion time available for an individual or group. If practicable, the meeting may be accelerated to enable adjournment in less than the time scheduled.

5. Sign and oral interpretation can be made available at the meeting, as well as an assistive listening device, if requested 10 calendar days before the meeting.

6. Minutes of the meeting will be taken. The minutes and all material accepted by the FAA during the meeting will be included in TAOARC Web site at http://www.faa.gov/avr/arm/index.htm under the “Committees” heading.

7. The meeting is designed to seek public input on the draft charter, tasking, and organization of the proposed Terminal Area Operations Aviation Rulemaking Committee. Therefore, the meeting will be conducted in an informal and nonadversarial manner.

Issued in Washington, DC, on November 16, 2001.
Ava L. Mims,
Acting Director, Flight Standards Service.

[FR Doc. 01-29264 Filed 11-21-01; 8:45 am]

BILLING CODE 4910-13-M